DEPARTMENT OF THE INTERIOR

Bureau of Land Management

[UTU 6443, UTU 012532, and UTU 0146037]

Public Land Order No. 7708; Partial Revocation of Public Land Order Nos. 1391, 4060, 4567, and Revocation of Public Land Order No. 4664; Utah

AGENCY: Bureau of Land Management, Interior.

ACTION: Public Land Order.

SUMMARY: This order partially revokes 3 Public Land Orders and revokes 1 Public Land Order in its entirety insofar as they affect approximately 427 acres of National Forest System lands withdrawn for use by the Forest Service as administrative sites, campgrounds, and other public purposes.

EFFECTIVE DATE: June 4, 2008.

FOR FURTHER INFORMATION CONTACT: Rhonda Flynn, BLM Utah State Office, 440 West 200 South, Suite 500, Salt Lake City, Utah 84101-1345, 801-539-4132.

SUPPLEMENTARY INFORMATION: The Forest Service has determined that these lands no longer need to be withdrawn and has requested the revocation. The lands will not be opened to surface entry or mining until completion of an analysis to determine if any of the lands need special designation.

Order

By virtue of the authority vested in the Secretary of the Interior by Section 204 of the Federal Land Policy and Management Act of 1976, 43 U.S.C. 1714 (2000), it is ordered as follows:

1. Public Land Order No. 1391 (22 FR 1003 (1957)), which withdrew public lands within the Manti-LaSal and Uinta National Forests from surface entry and mining and reserved them for use of the Forest Service for administrative sites, is hereby revoked insofar as it affects the following described lands:

Uinta National Forest

Uinta Special Meridian

a. Currant Creek Administrative Site

T. 1 S., R. 11 W.,

Sec. 23, SW¼SW¼SE¼ and SE¼SE¼SW¼;

Sec. 26, W½NW¼NE¼ and E½NE¼NW¼.

b. West Fork Administrative Site

T. 1 N., R/ 11 W.,

Sec. 29, SW¼SW¼SE¼ and SE¼SE¼SW¼;

Sec. 32, NW¼NW¼NE¼, NE¼NE¼NW¼, W½NE¼NW¼, and E½NW¼NW¼.

The areas described aggregate 140 acres in Wasatch County.

2. Public Land Order No. 4060 (31 FR 10033 (1966)), which withdrew National Forest System lands from mining for protection of the North Fork of the American Fork Canyon Watershed, is hereby revoked insofar as it affects the following described lands:

Uinta National Forest

Salt Lake Meridian

T. 4 S., R. 2 E.,

Sec. 1, all lands West of the 7,600 foot elevation contour in lots 1 and 8 (lands inside the Lone Peak Wilderness).

The areas described aggregate approximately 47 acres in Utah County.

3. Public Land Order No. 4567 (34 FR 1139 (1969)), which withdrew National Forest System lands from mining in aid of programs of the Department of Agriculture, is hereby revoked insofar as it affects the following described lands:

Uinta National Forest

Salt Lake Meridian

a. Ballard Canyon Campground

T. 3 S., R. 12 W.,

Sec. 23, SE¼SE¼SW¼, S½SW¼SE¼, and SW¼SE¼SE¼;

Sec. 26, NE¼NE¼NW¼, N½NW¼NE¼, and NW¼NE¼NE¼.

b. Hawthorne Campground

T. 8 S., R. 5 E.,

Sec. 11, N½NW¼NE¼.

c. Kolob Campground

T. 7 S., R. 4 E.,

Sec. 24, E½NW¼SE¼, SW¼NW¼SE¼, and NW¼NE¼SE¼.

d. McCune Canyon Ponderosa Pine Plantation

T. 12 S., R. 2 E.,

Sec. 20, NE¼SE¼NE¼, W½SE¼NE¼, and SW¼NE¼.

e. Payson Ponderosa Pine Plantation Administrative Site

T. 10 S., R. 2 E.,

Sec 3, SE¼SE¼NW¼, W½SW¼NE¼, and NE¼SW¼NE¼.

The areas described aggregate 230 acres in Utah and Wasatch Counties.

4. Public Land Order No. 4664 (34 FR 8915 (1969)), which withdrew National Forest System lands from mining in aid of programs of the Department of Agriculture, is hereby revoked in its entirety as it affects the following described lands:

Uinta National Forest

Salt Lake Meridian

Hawthorne Campground (addition)

T. 8 S., R. 5 E.,

Sec. 11, SW¼NW¼NE¼.

The area described contains 10 acres in Utah County.

Dated: May 15, 2008.
C. Stephen Allred,
Assistant Secretary—Land and Minerals Management.

[FR Doc. E8-12424 Filed 6-3-08; 8:45 am]

BILLING CODE 3410-11-P